DEPARTMENT OF TRANSPORTATION

Pipeline and Hazardous Materials Safety Administration

49 CFR Parts 191, 192, and 195

[Docket No. PHMSA-2010-0026]

RIN 2137-AE59

Pipeline Safety: Miscellaneous Changes to Pipeline Safety Regulations; Administrative Significance: Petitions for Reconsideration

AGENCY: Pipeline and Hazardous Materials Safety Administration (PHMSA), Department of Transportation (DOT).

ACTION: Petitions for reconsideration.

SUMMARY: On March 11, 2015, PHMSA published a final rule amending the pipeline safety regulations to make miscellaneous changes that updated and clarified certain regulatory requirements. These amendments address several subject matter areas including the performance of post-construction inspections, leak surveys of Type B onshore gas gathering lines, qualifying plastic pipe joiners, regulation of ethanol, transportation of pipe, filing of offshore pipeline condition reports, and calculation of pressure reductions for hazardous liquid pipeline anomalies. PHMSA has since received three petitions for reconsideration submitted by persons affected by the final rule.

DATES: PHMSA received these petitions on April 10, 2015.

FOR FURTHER INFORMATION CONTACT: Kay McIver, Transportation Specialist, by telephone at 202-366-0113, or by electronic mail at kay.mciver@dot.gov.

SUPPLEMENTARY INFORMATION:

I. Background

On March 11, 2015, PHMSA published a final rule amending the pipeline safety regulations to make miscellaneous changes that updated and clarified certain regulatory requirements (80 FR 12762). These amendments addressed several subject matter areas including the performance of post-construction inspections, leak surveys of Type B onshore gas gathering lines, qualifying plastic pipe joiners, regulation of ethanol, transportation of pipe, filing of offshore pipeline condition reports, and calculation of pressure reductions for hazardous liquid pipeline anomalies. PHMSA has since received three petitions for reconsideration submitted by persons affected by the final rule.

Dates: On April 10, 2015, the American Gas Association (AGA), the American Public Gas Association, (APGA) and the Interstate Natural Gas Association of America (INGAA) petitioned PHMSA for re-consideration to certain parts of the Miscellaneous Rule.

II. Petitions for Reconsideration

In accordance with 49 CFR 190.335, PHMSA received three petitions from the APGA, the AGA and the INGAA asking for reconsideration to some portions of the Final Rule. APGA and AGA expressed concerns about the provisions of the Final Rule applicable to construction inspections. INGAA and AGA expressed concerns regarding provisions in the Final Rule applicable to components fabricated by welding.

Section 190.337(b) states that it is the policy of the Associate Administrator for Pipeline Safety to issue notice of the action on a petition for reconsideration within 90 days after the date on which the regulation in question is published in the Federal Register, unless it is found impracticable to take action within that time. Section 190.337(b) goes on to state that when it is impractical to take action within that time, that PHMSA will give notice of that fact and the date by which action is expected to be taken. Due to the complexities of the petitions, PHMSA is unable to complete the analyses and render a decision within the 90-day time frame. Therefore, in accordance with § 190.337(b), PHMSA anticipates acting on these three petitions by October 1, 2015.

Issued in Washington, DC, on July 31, 2015, under authority delegated in 49 CFR 1.97.
Jeffrey D. Wiese,
Associate Administrator for Pipeline Safety.

[FR Doc. 2015-19227 Filed 8-5-15; 8:45 am]

BILLING CODE 4910-60-P